DEPARTMENT OF HOMELAND SECURITY

Coast Guard

[USCG-2005-20114]

Chemical Transportation Advisory Committee

AGENCY: Coast Guard, DHS.

ACTION: Notice of meeting.

SUMMARY: This notice announces meetings of Subcommittees of the Chemical Transportation Advisory Committee (CTAC) on the National Fire Protection Association (NFPA) 472 Standard, and on Hazardous Cargo Transportation Security (HCTS). The Subcommittee on the NFPA 472 Standard will meet to discuss the formation of a marine emergency responder chapter in NFPA 472, Professional Competence of Responders to Hazardous Materials Incidents. The Subcommittee on HCTS will meet to discuss security issues relating to the marine transportation of hazardous materials in bulk. These meetings will be open to the public.

DATES: The Subcommittee on the NFPA 472 Standard will meet on Tuesday, February 8, 2005, from 8 a.m. to 4 p.m. The Subcommittee on HCTS will meet on Wednesday, February 9, 2005, from 8 a.m. to 4 p.m. and Thursday, February 10, 2005, from 8 a.m. to 4 p.m. These meetings may close early if all business is finished. Written material and requests to make oral presentations should reach the Coast Guard on or before February 1, 2005. Requests to have a copy of your material distributed to each member of a Subcommittee should reach the Coast Guard on or before February 1, 2005.

ADDRESSES: Both the Subcommittees on the NFPA 472 Standard and on HCTS will meet at American Commercial Barge Line (ACBL) Company, 1701 E. Market St., Jeffersonville, IN, on the fifth floor. Send written material and requests to make oral presentations to Commander Robert J. Hennessy, Executive Director of CTAC, Commandant (G-MSO-3), U.S. Coast Guard Headquarters, 2100 Second Street SW., Washington, DC 20593-0001. This notice is available on the Internet at http://dms.dot.gov.

FOR FURTHER INFORMATION CONTACT: Commander Robert J. Hennessy, Executive Director of CTAC, or Ms. Sara Ju, Assistant to the Executive Director, telephone 202-267-1217, fax 202-267-4570.

SUPPLEMENTARY INFORMATION: Notice of these meetings is given under the Federal Advisory Committee Act, 5 U.S.C. App. 2.

Agenda of the NFPA 472 Subcommittee Meeting on Tuesday, February 8, 2005:

(1) Introduce Subcommittee members and attendees.

(2) Finish draft chapter for future incorporation into the NFPA 472 Standard, Professional Competence of Responders to Hazardous Materials Incidents.

Agenda of the Hazardous Cargo Transportation Security Subcommittee Meeting on February 9-10, 2005:

(1) Introduce Subcommittee members and attendees.

(2) Discuss status of Certain Dangerous Cargo list consolidation.

(3) Discuss the development of the HCTS Subcommittee's list of priorities to improve the implementation of the Maritime Transportation Security Act.

(4) Develop recommendations to improve the Declaration of Security forms.

(5) Discuss High Interest Vessel policy.

(6) Discuss vessel and facility exercises.

Procedural

These meetings are open to the public. Please note that the meetings may close early if all business is finished. At the discretion of the Chair, members of the public may make oral presentations during the meetings. If you would like to make an oral presentation at a meeting, please notify the Executive Director and submit written material on or before February 1, 2005. If you would like a copy of your material distributed to each member of a Subcommittee in advance of a meeting, please submit 25 copies to the Executive Director (see ADDRESSES) no later than February 1, 2005.

Information on Services for Individuals With Disabilities

For information on facilities or services for individuals with disabilities, or to request special assistance at the meeting, telephone the Executive Director as soon as possible.

Dated: January 14, 2005.
Howard L. Hime,
Acting Director of Standards, Marine Safety, Security and Environmental Protection.

[FR Doc. 05-1230 Filed 1-21-05; 8:45 am]

BILLING CODE 4910-15-P